DEPARTMENT OF THE INTERIOR

Minerals Management Service

Availability of Revised Outer Continental Shelf Leasing Map

AGENCY: Minerals Management Service (MMS), Interior.

ACTION: Availability of Revised Outer Continental Shelf (OCS) Leasing Map.

SUMMARY: Notice is hereby given that the NAD 27-based OCS Leasing Map, “Outer Continental Shelf Leasing Map in the Western Gulf of Mexico Planning Area, TX3A, Mustang Island Area, East Addition,” last revised on September 3, 2002, is on file and available for information only, in the Gulf of Mexico OCS Regional Office, New Orleans, Louisiana.

EFFECTIVE DATE: September 26, 2002.

ADDRESSES: Copies of Leasing Maps and Official Protraction Diagrams (OPDs) are $2.00 each. These may be purchased from the Public Information Unit, Information Services Section, Gulf of Mexico OCS Region, Minerals Management Service, 1201 Elmwood Park Boulevard, New Orleans, Louisiana 70123-2394, Telephone (504) 736-2519 or (800) 200-GULF. Leasing Maps and OPDs may be obtained in two digital formats: .gra files for use in ARC/INFO and .pdf files for viewing and printing in Acrobat. Copies are also available for download at www.gomr.mms.gov/homepg/lsesale/mapdiag.html.

SUPPLEMENTARY INFORMATION: In accordance with Title 43, Code of Federal Regulations, this map is the basic record for the description of mineral and oil and gas lease sales in the geographic area it represents. This revision corrects an error on Leasing Map TX3A, Mustang Island Area, East Addition, November 1, 2000. The area value 4926.76 acres in Block A47 is corrected as follows: 4928.76 acres.

Dated: September 10, 2002.
Michael C. Hunt,
Acting Associate Director for Offshore Minerals Management.

[FR Doc. 02-24408 Filed 9-25-02; 8:45 am]

BILLING CODE 4310-MR-P